DEPARTMENT OF TRANSPORTATION

Federal Aviation Administration

[Docket No. 2020-0488]

Agency Information Collection Activities: Requests for Comments; Clearance of a New Approval of Information Collection: Survey of Unmanned-Aircraft-Systems Operators

AGENCY: Federal Aviation Administration (FAA), DOT.

ACTION: Notice and request for comments.

SUMMARY: In accordance with the Paperwork Reduction Act of 1995, FAA invites public comments about our intention to request the Office of Management and Budget (OMB) approval for a new information collection. This survey is necessary to prepare and plan for the integration of unmanned aircraft systems (UAS) into the national airspace system (NAS), as required by Section 376 under the FAA Reauthorizations Act of 2018.

DATES: Written comments should be submitted by July 14, 2020.

ADDRESSES: Please send written comments:

• By Electronic Docket: www.regulations.gov (Enter docket number into search field).

• By mail: William Ekins, 800 Independence Ave. SW, Suite 938, Washington, DC 20024.

• By fax: 202- 267-3278.

FOR FURTHER INFORMATION CONTACT: William Ekins by email at: William.g.ekins@faa.gov; phone: 202-267-4735.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-

Title: Survey of Unmanned-Aircraft-Systems Operators.

Form Numbers: Online Collection.

Type of Review: New Information Collection.

Background: The FAA Reauthorizations Act of 2018 explicitly charges the FAA with developing a plan to implement an unmanned aircraft systems traffic management (UTM) services. The development of this congressionally mandated plan requires an estimation of current activity by UAS operators and projecting this behavior into the future as economic, technology, and regulatory condition change. Given the lack of available data on the flight behavior of UAS operators, the FAA proposes a survey of UAS operators who have registered with the FAA under Section 349 or Part 107.

Survey consists of a voluntary questionnaire administered online. Registrants within the FAA's UAS registrations under Part 107 and Section 349 are invited to complete the questionnaire via email. The email contains a personalized link to the questionnaire hosted by Survey Monkey. The questionnaire contains:

• 6 questions on general flight behavior,

• 4 questions about the number and types of UAS operated,

• 5 questions for respondents who identity as commercial operators, and

• 7 questions for respondents who identify as operating for public safety agencies.

Including a social-media preference and self-identifying questions, the questionnaire contains a total 24 question. However, the majority of respondents will only answer the first 12 questions.

The data obtained from the survey will be used for developing national forecasts of UAS activity. Summary data from the proposed survey will be included in the Aviation Forecast published annually by the FAA.

Respondents: Recreational and commercial operators of unmanned aircraft systems (UAS) who have registered with the FAA under Section 349 and Part 107, respectively.

Frequency: Annually.

Estimated Average Burden per Response: 5.3 minutes on average.

Estimated Total Annual Burden: 10,881 hours.

Issued in Washington, DC on 5-8-2020.
Michael Lukacs,
Deputy Division Manager, Office of Aviation Policy and Plans, APO-100, Federal Aviation Administration, Department of Transportation.

[FR Doc. 2020-10139 Filed 5-11-20; 8:45 am]

BILLING CODE 4910-13-P